DEPARTMENT OF HEALTH AND HUMAN SERVICES

Administration for Children and Families

Submission for OMB Review; Head Start Program Performance Standards (OMB #0970-0148)

AGENCY: Office of Head Start; Administration for Children and Families; HHS.

ACTION: Request for Public Comment.

SUMMARY: The Office Head Start (OHS), Administration for Children and Families (ACF), U.S. Department of Health and Human Services (HHS), is requesting a three-year extension of the Head Start Program Performance Standards (HSPPS) information collection (OMB #0970-0148, expiration 1/31/2020). There are no changes requested to these record keeping requirements.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: This information collection was approved alongside the final rule for the revised HSPPS on September 1, 2016. This information collection is entirely record keeping and does not contain any standardized instruments or instructions. For example, this includes the requirement that programs maintain a waiting list of eligible families. There are no changes to the record keeping requirements contained in this information collection. Only minor adjustments were made to the estimated burden based on updated enrollment and staff data.

Respondents: Head Start grantees.

Annual Burden Estimates
Recordkeeping requirement | Total number of respondents | Total number of responses per respondent | Average burden hours per response | Total burden hours
1301.6(a) | 3,020 | 1 | 0.70 | 2,114
1302.12(k) | 1,054,720 | 1 | .166 | 175,084
1302.14(c) | 3,020 | 1 | 2.00 | 6,040
1302.16(b) | 3,020 | 1 | 5.00 | 15,100
1302.33(a) and (b) | 1,054,720 | 1 | 1.00 | 1,054,720
1302.33(c)(2) | 294,632 | 1 | 2.00 | 589,264
1302.42(a) and (b) | 1,054,720 | 1 | 0.66 | 696,115
1302.42(e) | 3,020 | 1 | 0.50 | 1,510
1302.47(b)(7)(iv) | 3,020 | 1 | 0.50 | 1,510
1302.53(b) & (d) | 3,020 | 1 | 0.166 | 501
1302.90(a) | 3,020 | 1 | 0.50 | 1,510
1302.90(b)(1)(i)-(iv), (b)(4) | 79,509 | 1 | 0.33 | 26,238
1302.93(a) | 26,503 | 1 | 0.25 | 6,626
1302.94(a) | 3,020 | 1 | 0.166 | 501
1302.101(a)(4) and 1302.102(b)-(c) | 3,020 | 1 | 79.00 | 238,580
1302.102(d)(3) | 110 | 1 | 10.00 | 1,100
1303.12 | 3,020 | 1 | 0.166 | 501
1303.22-24 | 956,120 | 1 | 0.33 | 315,520
1303.42-53 | 260 | 1 | 40.00 | 10,400
1303.70(c) | 200 | 1 | 1 | 200
1303.72(a)(3) | 3,020 | 1 | 2 | 6,040

Estimated Total Annual Burden Hours: 3,149,174.

Authority: 42 U.S.C. 9836A.

Mary B. Jones,
ACF/OPRE Certifying Officer.

[FR Doc. 2019-17870 Filed 8-19-19; 8:45 am]

BILLING CODE 4184-40-P